DEPARTMENT OF THE INTERIOR

National Park Service

National Register of Historic Places; Notification of Pending Nominations

Nominations for the following properties being considered for listing in the National Register were received by the National Park Service before May 29, 2004.

Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 3, 2004.

Carol D. Shull,
Keeper of the National Register of Historic Places.

ALASKA

Wrangell-Peterburg Borough-Census Area

JUDITH ANN (Riverboat), Mile 12.25 Zimovia Hwy., Wrangell, 04000658

CALIFORNIA

San Francisco County

Palace of Fine Arts, 3301 Lyon St., San Francisco, 04000659

COLORADO

Bent County

Columbian School, 1026 W. 6th St., Las Animas, 04000665

Denver County

House at 1750 Gilpin Street, 1750 Gilpin St., Denver, 04000661

Larimer County

Borland, Maude Stanfield Harter, House, 610 N. Jefferson Ave., Loveland, 04000662

First United Presbyterian Church, 400 E. 4th St., Loveland, 04000664

Weld County

First Methodist Episcopal Church, 503 Walnut St., Windsor, 04000660

Greeley Masonic Temple, 829 10th Ave., Greeley, 04000663

GEORGIA

Muscogee County

High Uptown Historic District, (Columbus MRA) Roughly bounded by 2nd and 3rd Aves. between Railroad and 13th Sts., Columbus, 04000669

KANSAS

Brown County

Hiawatha National Guard Armory, (National Guard Armories of Kansas MPS) 108 N. 1st. St., Hiawatha, 04000667

Kingman County

Kingman National Guard Armory, (National Guard Armories of Kansas MPS) 111 S. Main St., Kingman, 04000666

MISSOURI

Callaway County

Downtown Fulton Historic District, Roughly bounded by 4th St., Market, 7th St. and Jefferson Ave., Fulton, 04000668

MONTANA

Yellowstone County

Armour Cold Storage, 1 S. Broadway, Billings, 04000670

NEW JERSEY

Bergen County

Demarest Railroad Depot, 38 Park St., Demarest Borough, 04000671

Middlesex County

Livingston Manor Historic District, Roughly bounded by Cleveland, Grant, Harrison, Lawrence, Lincoln, Madison and N. 2nd Aves. and River Rd., Highland Park Borough, 04000672

Passaic County

Eastside Park Historic District, Roughly bounded by 20th, Vreeland, and 11th Aves., E. 33rd St. and Mclean Blvd., Paterson, 04000673

TENNESSEE

Davidson County

Belle Meade Golf Links Subdivision Historic District, Roughly bounded by Windsor Dr., Blackburn and Pembroke Aves., Westover Dr. and Harding Pl., Nashville, 04000675

Gibson County

Medina City Hall, 115 2nd St., Medina, 04000674

UTAH

Iron County

Cedar City Historic District, Roughly bounded by 100 W. and 300 W., College Ave. and 400 S., Cedar City, 04000677

Weber County

Stone Farmstead, 301 W. 2nd St., Ogden, 04000676

Requests for removal have been made for the following resources:

GEORGIA

Muscogee County

Building at 1429 Second Avenue, (Columbus MRA), 1429 Second Ave., Columbus, 80001133

Building at 1520 Second Avenue, (Columbus MRA), 11520 Second Ave., Columbus, 80001134

Building at 1524 Second Avenue, (Columbus MRA), 1524 Second Ave., Columbus, 80001135

Building at 1606 Third Avenue, (Columbus MRA), 1429 Second Ave., Columbus, 80001136

Curtis, Walter W., House, (Columbus MRA), 1427 2nd Ave., Columbus, 80001160

Davis, John T., House, (Columbus MRA), 1526 3rd Ave., Columbus, 80001161

Hunt, William P., House, (Columbus MRA), 1527 2nd Ave., Columbus, 80001177

Lecroy, John, House, (Columbus MRA), 1640 3rd Ave., Columbus, 80001182

McSorley, Patrick J., House, (Columbus MRA), 1500 2nd Ave., Columbus, 80001185

Mischke, Charles, House, (Columbus MRA), 1638 3rd Ave., Columbus, 80001187

Pearce, George A., House, (Columbus MRA), 1519 2nd Ave., Columbus, 80001189

Pou, Joseph F., Jr., House, (Columbus MRA), 1528 2nd Ave., Columbus, 80001192

Price, William, House, (Columbus MRA), 1620 3rd Ave., Columbus, 80001194

Steward, John, House, (Columbus MRA), 1618 3rd Ave., Columbus, 80001203

Walton, James A., House, (Columbus MRA), 1523 2nd Ave., Columbus, 80001209

NEBRASKA

Adams County

Ringland Hall, Hastings College Campus, Hastings, 75001087

[FR Doc. 04-13738 Filed 6-17-04; 8:45 am]

BILLING CODE 4312-51-P